ENVIRONMENTAL PROTECTION AGENCY

[FRL-7119-4]

Database of Sources of Environmental Releases of Dioxin-Like Compounds in the United States: Reference Years 1987 and 1995

AGENCY: Environmental Protection Agency (EPA).

ACTION: Notice of availability of a final product.

SUMMARY: The National Center for Environmental Assessment within the Office of Research and Development, U. S. Environmental Protection Agency, announces the availability of the final Database of Sources of Environmental Releases of Dioxin-Like Compounds in the United States: Reference Years 1987 and 1995 (EPA/600/C-01/012, March 2001) and Users Manual (EPA/600/R-01/012, March 2001). The database is an electronic repository of congener-specific chlorinated dibenzo-p-dioxin and chlorinated dibenzofuran (CDD/CDF) emissions and environmental release data from all known sources in the United States. The database contains information that can be analyzed to track emissions and releases of CDD/CDF over time, compare congener-specific profiles between and among source categories, and develop source-specific emission factors that can then be used to estimate emissions. The information contained in the current version of the database is associated with two reference years: 1995 and 1987.

The structure of the database and the flow of information into and out of the database are described in the Users Manual. The database was created using Microsoft” Excel 97 (hereafter, Excel) in the manner of linked “workbooks.” Certain calculations and manipulations of data performed in Excel may be lost if the database is converted to another software; therefore, any recalculations for the data in the database should be performed using Excel. The Excel workbooks should be compatible with the Macintosh” version of Excel. Because the database and Users Manual are stored on a CD-ROM, a CD player is required for use.

ADDRESSES: The database is available electronically through the National Center for Environmental Assessment website at the following URL: http://www.epa.gov/ncea. Copies of the database are also available without cost from EPA's National Service Center for Environmental Publications (NSCEP) in Cincinnati, Ohio (telephone: 1-800-490-9198, or 513-489-8190; facsimile 513-489-8695). When requesting a copy of the CD-ROM, please provide your name, mailing address, and the document number (EPA/600/C-01/012). No paper copies will be made available.

FOR FURTHER INFORMATION CONTACT: David Cleverly, National Center for Environmental Assessment-Washington Office (8623D), U.S. Environmental Protection Agency, Washington DC 20460 by email (cleverly.david@epa.gov) or telephone(202-564-3238).

SUPPLEMENTARY INFORMATION: CDD/CDF emissions data were extracted from original engineering test reports of the results of sampling the stacks, wastewater discharges, and other emission streams at specific facilities and sources. The database was designed to accommodate facility-based emissions, mobile source emissions, and area source emissions. Test reports from various state agencies, trade associations, EPA program offices, and EPA regulatory dockets were consolidated and assimilated into the database. Most of the emissions data in Version 3.0 of the database concern releases to the air because few data are currently available on releases to other media.

EPA intends to periodically update the Database of Sources of Environmental Releases of Dioxin-Like Compounds in the United States: Reference Years 1987 and 1995 to reflect changes in emissions of dioxin-like compounds that may be associated with regulatory activity, advances in pollution control, abatement, and source-specific technologies. The next update to the database is scheduled for the fall of 2002, and will represent emissions of dioxin-like compounds in the United States for reference year 2000. Please consult the database website (above) for status and availability of this update.

Dated: December 5, 2001.
George W. Alapas,
Acting Director, National Center for Environmental Assessment.

[FR Doc. 01-31175 Filed 12-17-01; 8:45 am]

BILLING CODE 6560-50-P